DEPARTMENT OF THE INTERIOR

Bureau of Land Management

[OR-030-1020-PG; HAG 05-0082]

Meeting Notice Changes for the John Day/Snake Resource Advisory Council

AGENCY: Bureau of Land Management (BLM), Vale District

SUMMARY: The John Day/Snake Resource Advisory Council (JDSRAC) meeting scheduled for March 23 and 24, 2005, in Baker City, Oregon, has been cancelled.

The John Day/Snake Resource Advisory Council meeting scheduled for June 15 has been rescheduled to June 20. The meeting time and location remains the same: 8 a.m. to 4 p.m. at the Quality Inn, 700 Port Drive, Clarkston, WA. The meeting may include such topics as OHV, Noxious Weeds, Planning, Sage Grouse, and other matters as may reasonably come before the council. A field trip to Hells Canyon is scheduled for June 21 to discuss noxious weeds and other matters as identified.

The meeting is open to the public. Public comment is scheduled for 11 a.m. to 11:15 a.m. (Pacific time) June 20. For a copy of the information to be distributed to the Council members, please submit a written request to the Vale District Office 10 days prior to the meeting.

FOR FURTHER INFORMATION CONTACT: Additional information concerning the John Day/Snake Resource Advisory Council may be obtained from Debbie Lyons, Public Affairs Officer, Vale District Office, 100 Oregon Street, Vale, Oregon 97918, (541) 473-6218 or e-mail Debra_Lyons@or.blm.gov.

Dated: March 10, 2005.
David R. Henderson,
District Manager.

[FR Doc. 05-5136 Filed 3-15-05; 8:45 am]

BILLING CODE 4310-33-P